DEPARTMENT OF DEFENSE

Office of the Secretary

Availability of the Fiscal Year 2014 Inventory of Contracts for Services

AGENCY: Department of Defense (DoD).

ACTION: Notice of availability.

SUMMARY: DoD announces the availability of the Inventory of Contracts for Services for Fiscal Year 2014 pursuant to section 2330a of title 10, United States Code. The inventory is available to the public.

FOR FURTHER INFORMATION CONTACT: Office of the Director, Defense Procurement and Acquisition Policy, ATTN: OUSD(AT&L)DPAP/CPIC, 3060 Defense Pentagon, Washington, DC 20301-3060. Mr. Jeff Grover may be contacted by email at jeffrey.c.grover.civ@mail.mil or by telephone at 703-697-9352.

SUPPLEMENTARY INFORMATION: In accordance with section 2330a of title 10 United States Code, the Office of the Deputy Director, Defense Procurement and Acquisition Policy, Contract Policy and International Contracting (DPAP/CPIC) will make available to the public the annual inventory of contracts for services. The inventory is posted to the Defense Procurement and Acquisition Policy Web site at: http://www.acq.osd.mil/dpap/cpic/cp/acquisition_of_services_policy.html.

Jennifer L. Hawes,
Editor, Defense Acquisition Regulations System.

[FR Doc. 2015-23518 Filed 9-18-15; 8:45 am]

BILLING CODE 5001-06-P